DEPARTMENT OF LABOR

Employment and Training Administration

[NAFTA-03952]

Invensys Best Power, Necedah, Wisconsin; Notice of Termination of Investigation

Pursuant to Title V of the North American Free Trade Agreement Implementation Act (Pub. L. 103-182) concerning transitional adjustment assistance, hereinafter called (NAFTA-TAA), and in accordance with Section 250(a), Subchapter D, Chapter 2, Title II, of the Trade Act of 1974, as amended (19 U.S.C. 2273), an investigation was initiated on June 2, 2000, in response to a petition filed on behalf of workers at Invensys Best Power, Necedah, Wisconsin.

In a statement dated June 26, 2000, an employee submitting the petition requested that the petition for NAFTA-TAA be withdrawn. Consequently, further investigation in this case would serve no purpose, and the investigation has been terminated.

Signed at Washington, DC this 29th day of June, 2000.
Edward A. Tomchick,
Program Manager, Office of Trade Adjustment Assistance.

[FR Doc. 00-17310 Filed 7-7-00; 8:45 am]

BILLING CODE 4510-30-M